DEPARTMENT OF AGRICULTURE

Natural Resources Conservation Service

7 CFR Part 625

Healthy Forests Reserve Program; Correction

AGENCY: Natural Resources Conservation Service (NRCS), United States Department of Agriculture (USDA).

ACTION: Interim final rule with request for comments; correction.

SUMMARY: This is to correct a URL address previously published in the Rules and Regulations section on Wednesday, May 17, 2006 (71 FR 28547). The error occurred in a URL in the ADDRESSES section on page 28548. The entire ADDRESSES section with the corrected URL is published below. This interim final rule sets forth how NRCS will implement HFRP to meet the statutory objectives of the program.

DATES: This rule is effective May 17, 2006. Comments must be received by August 15, 2006.

ADDRESSES: Send comments by mail to Robin Heard, Director, Easement Program Division, Natural Resources Conservation Service, P.O. Box 2890, Washington, DC 20013-2890; or by e-mail: Rules@usda.gov; attn: Healthy Forests Reserve Program. This rule may also be accessed via Internet through the NRCS homepage at http://www.nrcs.usda.gov/programs/HFRP/ProgInfo/Index.html. The rule may also be reviewed and comments may be submitted via the Federal Government's centralized rulemaking Web site at http://www.regulations.gov. All comments, including the name and address of each commenter, will become a matter of public record, and may be viewed during normal business hours by contacting NRCS at the address above.

FOR FURTHER INFORMATION CONTACT: Robin Heard, Director, Easement Programs Division, NRCS, P.O. Box 2890, Washington, DC 20013-2890; telephone: (202) 720-1854; fax: (202) 720-4265; e-mail: Robin.Heard@wdc.usda.gov, Attention: Healthy Forests Reserve Program. Persons with disabilities who require alternative means for communication (Braille, large print, audiotape, etc.) should contact the USDA Target Center at (202) 720-2600 (voice and TDD).

Signed in Washington, DC, on June 29, 2006.
Teressa Davis,
Federal Register Liaison, Natural Resources Conservation Service.

[FR Doc. E6-10462 Filed 7-3-06; 8:45 am]

BILLING CODE 3410-16-P